EXECUTIVE OFFICE OF THE PRESIDENT

Office of National Drug Control Policy

Meeting of the Advisory Commission on Drug Free Communities

AGENCY: Office of National Drug Control Policy.

ACTION: Notice of meeting.

SUMMARY: In accordance with the Drug-Free Communities Act, a meeting of the Advisory Commission on Drug Free Communities will be held on September 28 & 29, 2005, at the Office of National Drug Control Policy in the 5th Floor Conference Room, 750 17th Street NW., Washington, DC. The meeting will commence at 12 noon on Wednesday, September 28, 2005 and adjourn for the evening at 5:30 p.m. The meeting will reconvene at 8:30 a.m. on Thursday, September 29 in the same location. The meeting will adjourn at 4 p.m. on Thursday, September 29. The agenda will include: Remarks by ONDCP Deputy Director Mary Ann Solberg, remarks by the DFC Program's Acting Administrator, a discussion of the program's evaluation, a review of the new grant awards, and an update from the Substance Abuse and Mental Health Services Administration. There will be an opportunity for public comment from 9-9:30 on Thursday September 29. Members of the public who wish to attend the meeting and/or make public comment should contact Carlos Dublin, at (202) 395-6762 to arrange building access.

FOR FURTHER INFORMATION CONTACT: Ken Shapiro, (202) 395-6762.

Dated: August 4, 2005.
Linda V. Priebe,
Assistant General Counsel.

[FR Doc. 05-15726 Filed 8-8-05; 8:45 am]

BILLING CODE 3180-02-P